DEPARTMENT OF LABOR

Office of the Secretary

Combating Exploitive Child Labor Through Education in Guinea, Jordan, Madagascar, Nicaragua, and Yemen

AGENCY: Bureau of International Labor Affairs, U.S. Department of Labor.

ACTION: New. Notice of Availability of Funds and Solicitation for Cooperative Agreement Applications (SGA). The full announcement is posted on http://www.grants.gov and DOL/ILAB's Web site at http://www.dol.gov/ILAB/grants/main.htm.

Funding Opportunity Number: SGA 08-01.

Catalog of Federal Domestic Assistance (CFDA) Number: Not applicable.

SUMMARY: The U.S. Department of Labor, Bureau of International Labor Affairs (ILAB), will award up to USD 20.5 million through 5 or more cooperative agreements to one or more qualifying organizations and/or Associations to combat exploitive child labor in the following 5 countries: Guinea (up to USD 3.5 million), Jordan (up to USD 4 million), Madagascar (up to USD 4.5 million), Nicaragua (up to USD 5 million), and Yemen (up to USD 3.5 million). Projects funded under SGA 08-01 will seek to ensure children's long-term withdrawal and prevention from engaging in exploitive child labor through the provision of direct educational services. Projects will also seek to build capacity in target countries to eliminate exploitive child labor and promote educational alternatives for children. Projects will aim to complement and expand upon existing projects and programs aimed at eliminating exploitive child labor, particularly the worst forms of child labor, and improving basic education in the target countries.

Application and Submission Information: The full-text version of SGA 08-01 is available on http://www.grants.gov and USDOL/ILAB's Web site at http://www.dol.gov/ILAB/grants/main.htm.

All applications for funding under SGA 08-01 must be submitted electronically to USDOL via http://www.grants.gov. Any application sent by mail or other delivery services, e-mail, telegram, or facsimile (FAX) will not be accepted.

Key Dates: The deadline for submission of applications is June 24, 2008. All technical questions regarding SGA 08-01 must be sent by May 15, 2008 in order to receive a response. USDOL will publish its responses to these technical questions on SGA 08-01 by May 23, 2008. Any questions regarding the electronic assembly of application packages must be sent by June 17, 2008. USDOL will make all cooperative agreement awards on or before September 30, 2008.

Agency Contacts: All technical questions regarding SGA 08-01 should be sent to Ms. Lisa Harvey, Grant Officer, U.S. Department of Labor's Office of Procurement Services, via e-mail (e-mail address: harvey.lisa@dol.gov; telephone: (202) 693-4592—please note that this is not a toll-free-number).

Background Information: Since 1995, USDOL has supported technical cooperation programming to combat exploitive child labor internationally through the promotion of educational opportunities for children in need. In total, the U.S. Congress has appropriated to USDOL over USD 660 million to support activities to combat exploitive child labor internationally. In turn, ILAB has signed cooperative agreements with various organizations to support international technical assistance projects to combat exploitive child labor in over 75 countries around the world.

USDOL international programming to combat exploitive child labor through education seeks to nurture the development, health, safety, and enhanced future employability of children around the world by withdrawing or preventing children from involvement in exploitive labor and providing them with access to basic education, vocational training and other services. Since 2001, USDOL-funded projects have withdrawn or prevented over 1 million children from exploitive labor.

Signed at Washington, DC, this 24th day of April, 2008.
Lisa Harvey,
Grant Officer.

[FR Doc. E8-9427 Filed 4-29-08; 8:45 am]

BILLING CODE 4510-28-P